DEPARTMENT OF HEALTH AND HUMAN SERVICES

Centers for Disease Control and Prevention

[30-Day 14-13AHG]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC 20503 or by fax to (202) 395-5806. Written comments should be received within 30 days of this notice.

Proposed Project

Evaluation of Food Safety Programs—New—National Center for Environmental Health (NCEH), Centers for Disease Control and Prevention (CDC).

Background and Brief Description

Local and state food safety programs (FSPs) are on the frontline of foodborne disease prevention in United States (U.S.). Through the Environmental Health Specialists Network (EHS-Net)(OMB No. 0920-0792, Expiration2/28/2015), CDC currently funds and works with local and state health departments in five states (California, New York, Minnesota, Rhode Island, and Tennessee) to: (1) Identify environmental antecedents (underlying factors) to illness and disease outbreaks; (2) translate findings into improved prevention efforts using a systems-based approach; (3) offer training opportunities to current and future environmental health specialists; and (4) strengthen collaboration among epidemiology, laboratory, and environmental health programs. This CDC program offers insights into the current status of FSPs among EHS-Net partners, but information is lacking on a national scale.

The current tight fiscal environment faced by U.S. health departments has led to a significant reduction in funding for public health programs, such as food safety. For example, 57 percent of local health departments reduced or eliminated at least one public health program during 2011. Therefore, the CDC is requesting for a two-year OMB approval to conduct the “Evaluation of Food Safety Programs” survey among a representative sample of local and state health departments implementing FSPs in the U.S.

The purpose of this evaluation of local and state FSPs is to collect descriptive data on their current status and activities, to describe changes in their status and activities from 2007 to 2012, and to determine if there is a relationship between funding status and activities. Data will be collected on food safety activities, workforce capacity and competency, financial resources, community health, and demographics of FSPs. Data collected will help CDC better understand the relationship between different levels of funding and FSP effectiveness in the U.S.

State and local food safety programs are primary respondents for this data collection. There are over 3,000 state and local health departments in the U.S. It is unknown how many state and local health departments will actually participate in the evaluation survey, as participation will be voluntary.

This information collection seeks approval to obtain data using a one-time data collection survey. The survey will take approximately 2 hours to complete. The survey will be completed once by respondents either manually or electronically. The CDC is asking for this data collection burden to allow local and state health departments ample time to request and obtain the information they need from their various departments and units to complete the evaluation survey.

For this project, the anticipated number of respondents is 190 health departments per year, and the total estimated annual burden hours are 380 hours. Only local and state health departments implementing food safety programs in the U.S. will be eligible to participate in the survey. There will be no cost to the respondents other than their time.

Estimated Annualized Burden Hours
Type of respondents | Form name | Number of respondents | Number of responses per respondent | Average burden per response (in hrs.)
Local health departments | Evaluation Survey (electronic) | 138 | 1 | 2
| Evaluation Survey (paper-based) | 35 | 1 | 2
State health departments | Evaluation Survey (electronic) | 14 | 1 | 2
| Evaluation Survey (paper-based) | 3 | 1 | 2

LeRoy Richardson,
Chief, Information Collection Review Office, Office of Scientific Integrity, Office of the Associate Director for Science, Office of the Director, Centers for Disease Control and Prevention.

[FR Doc. 2014-00911 Filed 1-16-14; 8:45 am]

BILLING CODE 4163-18-P